DEPARTMENT OF ENERGY

Solicitation for Expressions of Interest; Low-Cost Prototype Inverters

AGENCY: Department of Energy.

ACTION: Notice of solicitation for participation in competition to create low-cost inverters.

SUMMARY: The U.S. Department of Energy (DOE), in partnership with the National Association of State Energy Officials (NASEO), the Institute of Electrical and Electronics Engineers (IEEE), and other sponsors announces an opportunity for qualified colleges and university engineering programs to submit proposals to compete for a cash prize in a contest to build prototype, low-cost inverters. The contest is titled the 2003 Future Energy Challenge. This competition is open to schools with ABET-accredited engineering programs or the equivalent.

DATES: The due date for receipt of application requirements is November 30, 2001. Schools selected to compete in the 2001 Future Energy Challenge will be notified by January 1, 2002. The competition will be scheduled for the 2002 calendar year. Awards will be presented during Engineers Week in February 2003.

ADDRESSES: Additional information on this competition and application requirements are posted at http://www.energychallenge.org. The application requirements package will also provide information on how you might qualify for seed money from other sponsors. (Note: The agency or organization providing the seed money will solicit and evaluate the application requirements for seed funding, not DOE.)

SUPPLEMENTARY INFORMATION: The 2003 Future Energy Challenge seeks to dramatically improve the design and reduce the cost of DC-AC inverters and interface systems for use in distributed generation systems. DOE is joining with NASEO, and possibly others, to sponsor this competition with the goal of making these interface systems practical and cost effective. The objectives are to design elegant, manufacturable systems that would reduce the costs of commercial interface systems to $40 per kilowatt or less and, thereby, accelerate the deployment of distributed generation systems in homes and buildings. Schools with the capability to undertake the challenging task of designing complete systems or modifying commercial inverters to achieve design and manufacturability improvements that lead to achievement of the target cost reductions or better are invited to submit proposals to DOE to compete. A full prototype is sought that leads to a comprehensive hardware system. Schools should plan to form multi-disciplinary teams to address the energy source characteristics, design the power electronics, design packaging and thermal management systems, develop filtering and other interface sub-systems, analyze process costs and manufacturability, and perform economic and life-cycle cost analyses. The hardware prototypes judged as best will be tested by fuel cell manufacturers, at DOE's National Energy Technology Center as interfaces for a fuel cell source. The school with the most cost-effective, fully functional design that can meet the aggressive cost target will win a prize of at least $50,000. Proposals will be judged by a distinguished panel of experts from the IEEE.

Issued in Washington, DC, on October 24, 2001.
Robert S. Kripowicz,
Acting Assistant Secretary for Fossil Energy.

[FR Doc. 01-27232 Filed 10-29-01; 8:45 am]

BILLING CODE 6450-01-P